DEPARTMENT OF ENERGY

Federal Energy Regulatory Commission

[Docket No. CP15-558-000]

PennEast Pipeline Company, LLC; Notice of Revised Schedule for Environmental Review of the Penneast Pipeline Project

This notice identifies the Federal Energy Regulatory Commission (FERC or Commission) staff's revised schedule for the completion of the final environmental impact statement (EIS) for PennEast Pipeline Company, LLC's (PennEast) PennEast Pipeline Project. The previous revised notice of schedule, issued on November 8, 2016, identified February 17, 2017 as the EIS issuance date. Due to additional environmental information filed by PennEast and certain state agencies since issuance of the November 8, 2016, Scheduling Notice, the Commission staff requires more time to analyze all the environmental data and prepare the final EIS. Commission staff has therefore revised the schedule for issuance of the final EIS.

Schedule for Environmental Review

Issuance of Notice of Availability of the final EIS: April 7, 2017

90-day Federal Authorization Decision Deadline: July 6, 2017

If a schedule change becomes necessary, an additional notice will be provided so that the relevant agencies are kept informed of the project's progress.

Additional Information

In order to receive notification of the issuance of the EIS and to keep track of all formal issuances and submittals in specific dockets, the Commission offers a free service called eSubscription (https://www.ferc.gov/docs-filing/esubscription.asp).

Dated: January 23, 2017.
Kimberly D. Bose,
Secretary.

[FR Doc. 2017-01910 Filed 1-27-17; 8:45 am]

BILLING CODE 6717-01-P